ENVIRONMENTAL PROTECTION AGENCY

[FRL-7822-9]

Availability of FY 03 Grant Performance Reports for State of KY; and the Local Agencies of Louisville, KY, Knox County, TN and Memphis-Shelby County, TN

AGENCY: Environmental Protection Agency (EPA).

ACTION: Notice of availability of grantee performance evaluation reports.

SUMMARY: EPA's grant regulations (40 CFR 35.115) require the Agency to evaluate the performance of agencies which receive grants. EPA's regulations for regional consistency (40 CFR 56.7) require that the Agency notify the public of the availability of the reports of such evaluations. EPA performed end-of-year evaluations of one state air pollution control program (Commonwealth of Kentucky); and three local programs (Louisville Metro Air Pollution Control District, KY; Memphis-Shelby County Health Department, TN; and Knox County Department of Air Quality Management, TN). The four evaluations were conducted to assess the agencies' performance under the grants awarded by EPA under authority of section 105 of the Clean Air Act. EPA Region 4 has prepared reports for each agency identified above and these reports are now available for public inspection.

ADDRESSES: The reports may be examined at the EPA's Region 4 office, 61 Forsyth Street, SW., Atlanta, Georgia 30303, in the Air, Pesticides, and Toxics Management Division.

FOR FURTHER INFORMATION CONTACT: Marie Persinger (404) 562-9048 for information concerning the State of Kentucky and the local agency of Louisville, Kentucky; and Rayna D. Brown (404) 562-9093 for the local agencies of Knox County, Tennessee and Memphis-Shelby County, Tennessee. They may be contacted at the above Region 4 address.

Dated: September 16, 2004.
A. Stanley Meiburg,
Deputy Regional Administrator, Region 4.

[FR Doc. 04-22085 Filed 9-30-04; 8:45 am]

BILLING CODE 6560-50-M